DEPARTMENT OF AGRICULTURE

Food and Nutrition Service

Agency Information Collection Activities, Proposed Collection: Request for Comments on Understanding Participant Experiences in SNAP E&T

AGENCY: Food and Nutrition Service (FNS), USDA.

ACTION: Notice.

SUMMARY: In accordance with the Paperwork Reduction Act of 1995, this notice invites the general public and other public agencies to comment on this proposed information collection. This is a new information collection for the contract of the project titled “Understanding Participant Experiences in Supplemental Nutrition Assistance Program (SNAP) Employment and Training (E&T).” The purpose of this collection is to help FNS develop a comprehensive understanding of how SNAP participants experience the SNAP E&T program and to identify actionable recommendations to help programs improve their customer service and efficiently connect participants with training and services that meet their needs.

DATES: Written comments must be received on or before September 29, 2025.

ADDRESSES: Comments may be mailed to Kristen Corey, Food and Nutrition Service, U.S. Department of Agriculture, 1320 Braddock Place, 5th Floor, Alexandria, VA 22314 or submitted via email to kristen.corey@usda.gov. Comments will also be accepted through the Federal eRulemaking Portal; go to http://www.regulations.gov, and follow the online instructions for submitting comments electronically.

All responses to this notice will be summarized and included in the request for Office of Management and Budget approval. All comments will be a matter of public record.

FOR FURTHER INFORMATION CONTACT: Requests for additional information or copies of this information collection should be directed to Michael Burke at 703-305-4369.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Understanding Participant Experiences in SNAP E&T.

Form Number: N/A.

OMB Number: 0584-NEW.

Expiration Date: Not yet determined.

Type of Request: New collection.

Abstract: The Supplemental Nutrition Assistance Program (SNAP) offers a vital lifeline to low-income Americans, preventing hunger during difficult times. When determining SNAP eligibility, States must identify anyone in the household that is (1) subject to general work requirements, (2) subject to a time limit on benefits if they are not meeting work requirements, and (3) required to participate in the State's SNAP Employment and Training (E&T) program. States vary considerably in how they determine eligibility, share information about work requirements and employment and training opportunities, and make referrals to SNAP E&T programs. The “Understanding Participant Experiences in SNAP E&T” project will help the U.S. Department of Agriculture (USDA), Food and Nutrition Service's (FNS) to assess SNAP participants' understanding of work requirements and their experiences accessing SNAP E&T programs that meet their needs.

We expect four States to participate in the project, including two States that operate mandatory SNAP E&T programs and two States that operate voluntary SNAP E&T programs. The project aims to (1) explore SNAP work registrants' understanding of work requirements when certifying or recertifying for SNAP eligibility; (2) describe SNAP work registrants' experiences with accessing SNAP E&T services and finding training opportunities that meet their needs; (3) assess the experiences of SNAP E&T participants; and (4) develop recommendations that States can use to support program participants in navigating work requirements and SNAP E&T.

To achieve the research objectives, the project will document and describe the experiences of SNAP participants in the four States through two qualitative research methods: photovoice and in-depth interviews. Photovoice engages participants in structured activities where they use photos they have taken to guide interviews with researchers. The interviews will focus on and highlight themes and issues most significant to participants about SNAP E&T. In-depth interviews will provide rich, detailed accounts of participants' thoughts, behaviors, and experiences with work requirements and in SNAP E&T programs. Finally, the project will include video interviews with SNAP E&T participants and staff that provide E&T services to create a multimedia deliverable that tells a complete story of navigating work requirements and engaging with SNAP E&T. The study team will work with FNS to select and recruit State agencies and SNAP E&T providers that offer direct services to SNAP participants to support the recruitment for photovoice and in-depth interviews.

Affected public: Members of the public affected by the data collection include individuals and households, State and local government workers from SNAP agencies in four States, and staff at not-for-profit and for-profit organizations that provide services to SNAP E&T participants. Respondent groups will include: (1) SNAP E&T program participants; (2) directors and managers from State and local government agencies supporting SNAP E&T programs; and (3) staff at providers that offer direct services to SNAP E&T participants.

Estimated number of respondents: SNAP E&T participants will be asked to participate in either a photovoice interview or an in-depth interview (which include several possible notifications), as well as a possible video interview for the multimedia deliverable. State and local government staff and staff that provide SNAP E&T services will respond to study recruitment efforts (which include several possible notifications), an administrative data request, and a possible video interview for the multimedia deliverable. The total estimated number of unique respondents—which includes everyone contacted for data collection regardless of whether they participate—is 1,233. This includes up to 1,163 individuals/households, 24 State and local government staff, and 46 staff that provide E&T services. The study team will contact 1,163 individuals/households; 779 will be respondents and 384 will be non-respondents. Of the 779 respondents, 20 will participate in photovoice interviews, 160 will participate in an in-depth interview, and 11 will participate in pre-testing the photovoice and in-depth interview instruments.

Among individuals participating in the photovoice and in-depth interviews, 15 will also be contacted again to participate in video interviews for the multimedia deliverable; of these, 10 will be respondents and 5 will be non-respondents.

Before the start of data collection in one non-study State, the study team will pretest all photovoice activities (including the consent form, the kickoff session, the photo submission form, and the interview discussion guide) with three SNAP E&T participants. We will also pretest the in-depth interview guide with eight SNAP E&T participants in two non-study States.

To begin recruiting participants, the study team will contact 24 State SNAP agency staff, which includes State program staff and State data systems staff; 14 will be respondents and 10 will be non-respondents. Four of the State data systems staff will provide administrative data which will be used to recruit SNAP E&T participants. The study team will contact 32 staff from not-for-profit and eight staff at for-profit organizations that serve as SNAP E&T providers to support the recruitment effort for the photovoice interviews and in-depth interviews. Among staff that provide E&T services participating in the recruitment effort, eight individuals will also be contacted again to participate in interviews for the multimedia deliverable.

Estimated number of responses per respondent: Across all 1,233 unique respondents (839 respondents and 394 non-respondents) and 3,250 annual responses, the average number of responses is 2.64.

Estimated total annual responses. 3,250.

Estimated time per response. The estimated time per response varies from 0.033 hours for activities related to reading flyers for photovoice and in-depth interview recruitment to 8 hours for State data systems staff to provide administrative data. The response time will vary depending on the respondent group, with an average estimated time of 11.70 minutes (0.19 hours).

Estimated total annual burden on respondents. The total estimated annual burden on respondents is 38,022 minutes (633.70 hours).

James C. Miller,
Administrator, Food and Nutrition Service.

[FR Doc. 2025-14290 Filed 7-28-25; 8:45 am]

BILLING CODE 3410-30-P